DEPARTMENT OF TRANSPORTATION

Surface Transportation Board

[STB Finance Docket No. 34330]

The Burlington Northern and Santa Fe Railway Company—Acquisition and Operation Exemption—Montana Western Railway Company, Inc.

AGENCY: Surface Transportation Board.

ACTION: Notice of exemption.

SUMMARY: Under 49 U.S.C. 10502, the Board is granting a petition for exemption from the prior approval requirements of 49 U.S.C. 11323-25 for The Burlington Northern and Santa Fe Railway Company to acquire the interest of the current operator, the Montana Western Railway Company, Inc., a Class III carrier, and to operate a 52-mile line of rail from Garrison to Butte, MT.

DATES: This exemption is effective on July 23, 2003. Petitions to stay must be filed by July 8, 2003. Petitions to reopen must be filed by July 18, 2003.

ADDRESSES: An original and 10 copies of all pleadings referring to STB Finance Docket No. 34330 must be filed with the Surface Transportation Board, 1925 K Street, NW., Washington, DC 20423-0001. In addition, one copy of all pleadings must be served on petitioner's representative, Robert M. Jenkins III, Mayer, Brown, Rowe & Maw, 1909 K Street, NW., Washington, DC 20006.

FOR FURTHER INFORMATION CONTACT: Beryl Gordon, (202) 565-1600. [Assistance for the hearing impaired is available through the Federal Information Relay Service (FIRS) at 1-800-877-8339.]

SUPPLEMENTARY INFORMATION: Additional information is contained in the Board's decision. Copies of the decision may be purchased from Dā 2 Dā Legal Copy Service by calling (202) 293-7776 (assistance for the hearing impaired is available through FIRS at 1-800-877-8339) or by visiting Suite 405, 1925 K Street, NW., Washington, DC 20006.

Board decisions and notices are available on our Web site at http://www.stb.dot.gov.

Decided: June 20, 2003.
By the Board, Chairman Nober.
Vernon A. Williams,
Secretary.

[FR Doc. 03-16181 Filed 6-25-03; 8:45 am]

BILLING CODE 4915-00-P